DEPARTMENT OF HOMELAND SECURITY

Transportation Security Administration

Extension of Agency Information Collection Activity Under OMB Review: Pipeline Operator Security Information

AGENCY: Transportation Security Administration, DHS.

ACTION: 30-Day notice.

SUMMARY: This notice announces that the Transportation Security Administration (TSA) has forwarded the Information Collection Request (ICR), Office of Management and Budget (OMB) control number 1652-0055, abstracted below, to OMB for review and approval of an extension of the currently approved collection under the Paperwork Reduction Act (PRA). The ICR describes the nature of the information collection and its expected burden. Specifically, the collection involves the submission of data concerning pipeline security incidents.

DATES: Send your comments by November 15, 2021. A comment to OMB is most effective if OMB receives it within 30 days of publication.

ADDRESSES: Written comments and recommendations for the proposed information collection should be sent within 30 days of publication of this notice to www.reginfo.gov/public/do/PRAMain. Find this particular information collection by selecting “Currently under Review—Open for Public Comments” and by using the find function.

FOR FURTHER INFORMATION CONTACT: Christina A. Walsh, TSA PRA Officer, Information Technology (IT), TSA-11, Transportation Security Administration, 6595 Springfield Center Drive, Springfield, VA 20598-6011; telephone (571) 227-2062; email TSAPRA@tsa.dhs.gov.

SUPPLEMENTARY INFORMATION: TSA published a Federal Register notice, with a 60-day comment solicitation period, of the following collection of information on June 30, 2021, 86 FR 34777.

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Pipeline Operator Security Information.

Type of Request: Extension of a currently approved collection.

OMB Control Number: 1652-0055.

Forms(s): CISA Reporting System form.

Affected Public: Pipeline system operators.

Abstract: In addition to TSA's broad responsibility and authority for “security in all modes of transportation” under 49 U.S.C. 114(d), TSA is statutorily required to develop and transmit to pipeline operators security recommendations for natural gas and hazardous liquid pipelines and pipeline facilities. See sec. 1557 of the Implementing Recommendations of the 9/11 Commission Act of 2007, Public Law 110-53 (121 Stat. 266; August 3, 2007), codified at 6 U.S.C. 1207. Consistent with these requirements, TSA produced Pipeline Security Guidelines in December 2010, and April 2011, with updates published in March 2018 and April 2021. Among the recommendations, TSA encourages pipeline operators to notify TSA of all (1) incidents that may indicate a deliberate attempt to disrupt pipeline operations; and (2) activities that could be precursors to such an attempt.

In addition, on May 26, 2021, OMB approved TSA's request for an emergency revision of this information collection based on TSA's issuance of a Security Directive (SD) with requirements for TSA-specified critical pipeline owner/operators of hazardous liquid and natural gas pipelines and liquefied natural gas facilities to report cybersecurity incidents or potential cybersecurity incidents on their information and operational technology systems to the Cybersecurity and Infrastructure Security Agency (CISA) within 12 hours of identification of a cybersecurity incident using the CISA Reporting System. The SD also requires critical pipeline owner/operators to appoint cybersecurity coordinators, who must be available to TSA and CISA 24/7 to coordinate cybersecurity practices and address any incidents that arise, and to provide contact information for the coordinators to TSA.¹

¹ The additional requirement in the SD to conduct a cybersecurity assessment is covered under a separate OMB control number 1652-0050 Critical Facility Information of the Top 100 Most Critical Pipelines.

Number of Respondents: 100.

Estimated Annual Burden Hours: An estimated 4,033 hours annually.²

² TSA has updated the burden to the collection since the publication of the 60-day notice, which reported the annual burden hours as 4,066 hours.

Christina A. Walsh,
TSA Paperwork Reduction Act Officer, Information Technology.

[FR Doc. 2021-22332 Filed 10-13-21; 8:45 am]

BILLING CODE 9110-05-P